DEPARTMENT OF THE INTERIOR

Bureau of Indian Affairs

Notice of Availability of the Draft Environmental Impact Statement for the Proposed Truckee River Water Quality Settlement Agreement, Federal Water Rights Acquisition Program, for Washoe, Storey, and Lyon Counties, NV

AGENCY: Bureau of Indian Affairs, Interior.

ACTION: Notice.

SUMMARY: This notice provides the public with supplemental information, and announces public hearings to receive comments on a draft Environmental Impact Statement (DEIS) for the Truckee River Water Quality Settlement Agreement, Federal Water Rights Acquisition Program, that the Bureau of Indian Affairs filed with the Environmental Protection Agency (EPA). The EPA published its notice of availability for the DEIS on Friday, October 5, 2001, in the Federal Register (66 FR 51036). This DEIS analyzes the potential impacts of implementing the provisions of the Truckee River Water Quality Settlement Agreement (WQSA), signed in 1996 by the U.S. Department of Justice (DOJ), U.S. EPA, U.S. Department of the Interior (DOI), Nevada Division of Environmental Protection (NDEP), Washoe County, Nevada , City of Reno, Nevada, City of Sparks, Nevada and the Pyramid Lake Paiute Tribe (Tribe).

DATES: Written comments on the DEIS must arrive by December 3, 2001. The public hearings will be held from 5 to 8 p.m. on Tuesday, November 27, 2001, Wednesday, November 28, 2001, and Friday, November 30, 2001.

ADDRESSES: You may mail or hand carry written comments to Steve Alcorn, Bureau of Reclamation, Lahontan Basin Area Office, 705 North Plaza Street, Room 320, Carson City, Nevada 89701; or Tom Strekal, Bureau of Indian Affairs, Western Nevada Agency, 1677 Hot Springs Road, Carson City, Nevada 89706.

The November 27, 2001, public hearing will be in the Fernley City Complex, 595 Silver Lace Boulevard, Fernley, Nevada. The November 28, 2001, public hearing will be in the Pyramid Lake Tribal Council Chambers, 208 Capital Hill (Highway 447), Nixon, Nevada. The November 30, 2001, public hearing will be in the Sparks City Council Chambers, 431 Prater Way, Sparks, Nevada.

To obtain a copy the DEIS, you may contact Steve Alcorn or Tom Strekal at the respective addresses provided above. Copies of the DEIS are also available for review at these addresses, as well as at the following locations: Bureau of Indian Affairs, Western Regional Office, 400 North 5th Street, Two Arizona Center, Phoenix, Arizona; Washoe County Public Library, 301 South Center Street, Reno, Nevada; Fernley City Hall, 595 Silver Lace Blvd., Fernley, Nevada; and Pyramid Lake Tribe Water Resources Office, 208 Capital Hill, Nixon, Nevada. In addition, the DEIS is available electronically on the BIA Internet Web site at http://phxao.az.bia.gov/branches/environment/eis/htm.

FOR FURTHER INFORMATION CONTACT: Steve Alcorn, 775-882-3436, or Tom Strekal, 775-887-3500.

SUPPLEMENTARY INFORMATION: On October 10, 1996, DOJ, EPA, and DOI joined NDEP, Washoe County, Reno, Sparks, and the Tribe in signing WQSA. This agreement resulted in dismissal of litigation brought by the Tribe against Reno, Sparks, the State of Nevada, and the United States over approval and operation of the Truckee Meadows Wastewater Reclamation Facility (TMWRF), owned jointly by Reno and Sparks. WQSA establishes a joint program to improve Truckee River water quality by increasing flows in the river through the purchase and dedication of Truckee River water rights for instream flow. WQSA also provides for the use of treatment plant effluent in place of river water for certain purposes.

WQSA grew from negotiations among the signatory parties during 1994-1995 to resolve litigation in a mutually agreeable manner. DOI, EPA, NDEP, and the Tribe had concerns about the quality and quantity of water in the lower Truckee River downstream from Reno and Sparks, as well as the water flowing to Pyramid Lake. Reno, Sparks, and Washoe County were concerned about those issues as well, but were primarily focused on securing permits to expand TMWRF while achieving water quality standards in the Truckee River with their discharge. Public scoping meetings for this project were held in Reno, Carson City, Fallon and Fernley, Nevada, in September 1995, and in Reno, Fallon and Fernley, Nevada, in March 1997.

Non-point sources of water pollution, such as agricultural return flows and urban runoff, as well as point sources, such as effluent from TMWRF, affect Truckee River water quality. Violations of the Federal Clean Water Act's dissolved oxygen standard (minimum of 5 mg/l) occur in the lower river as a consequence of algae production stimulated by high concentrations of total dissolved solids, nitrogen and phosphorus. This condition is exacerbated during periods of low flow.

WQSA is an effort to address Truckee River water quality conditions by directly increasing river flow during the period of the year characterized by low flow. WQSA obligates the United States to allocate $12 million to acquire Truckee River water rights for water quality purposes. Whenever possible, water associated with the exercise of such rights will be stored in Truckee River reservoirs managed by BOR. Stored water-quality water is anticipated to be released primarily during periods of low flow (normally July, August and September). The resulting flow augmentation is expected to increase the nutrient assimilative capacity of the Truckee River and to dilute pollutants.

BIA, the U.S. Fish and Wildlife Service and BOR will be responsible for implementing the federal commitments identified in WQSA. Federal funds for this program have been fully appropriated by Congress and are managed by BIA. Accordingly, BIA is the lead agency in preparing this DEIS. BIA has contracted the acquisition program with the Tribe and the Tribe has, in turn, subcontracted with a broker to acquire water rights. Water rights acquired using federal money pursuant to WQSA are expected to be held in trust by the United States for the Tribe.

Public Comment Solicitation

Comments, including names and home addresses of respondents, will be available for public review at the Bureau of Reclamation office mailing address shown in the ADDRESSES section during regular business hours, 8 a.m. to 4:30 p.m., Monday through Friday, except holidays. Individual respondents may request confidentiality. If you wish us to withhold your name and/or address from public review or from disclosure under the Freedom of Information Act, you must state this prominently at the beginning of your written comment. Such requests will be honored to the extent allowed by law. We will not, however, consider anonymous comments. All submissions from organizations or businesses, and from individuals identifying themselves as representatives or officials of organizations or businesses, will be made available for public inspection in their entirety.

Authority

This notice is published in accordance with 1503.1 of the Council on Environmental Quality Regulations (40 CFR parts 1500 through 1508), implementing the procedural requirements of the National Environmental Policy Act of 1969, as amended (42 U.S.C. 4321 et seq.), and the Department of the Interior Manual (516 DM 1-6), and is in the exercise of authority delegated to the Assistant Secretary—Indian Affairs by 209 DM 8.1.

Dated: October 9, 2001.
Neal A. McCaleb,
Assistant Secretary,—Indian Affairs.

[FR Doc. 01-26950 Filed 10-25-01; 8:45 am]

BILLING CODE 4310-02-P